DEPARTMENT OF TRANSPORTATION

Federal Aviation Administration

14 CFR Part 71

[Docket No. FAA-2003-16502; Airspace Docket No. 03-ACE-86]

Modification of Class E Airspace; Waverly, IA

Correction

In rule document 03-30018 beginning on page 67360 in the issue of Tuesday, December 2, 2003, make the following correction:

§ 71.1 [Corrected]

On page 67361, in the third column, in § 71.1, under the heading ACE IA E5 WAVERLY, IA, in the sixth line, “with” should read “within”.

[FR Doc. C3-30018 Filed 12-9-03; 8:45 am]

BILLING CODE 1505-01-D